ENVIRONMENTAL PROTECTION AGENCY

40 CFR Part 192

[EPA-HQ-OAR-2012-0788; FRL-9965-50-OAR]

RIN 2060-AP43

Health and Environmental Protection Standards for Uranium and Thorium Mill Tailings

AGENCY: Environmental Protection Agency (EPA).

ACTION: Proposed rule; reopening of comment period.

SUMMARY: The U.S. Environmental Protection Agency (EPA) is announcing a reopening of the public comment period for the Notice of Proposed Rulemaking (NPRM) requesting public comment and information on revisions to the EPA's “Health and Environmental Protection Standards for Uranium and Thorium Mill Tailings.”

DATES: The comment period for the NPRM, published January 19, 2017 (82 FR 4408), is reopened. Written comments must be received on or before October 16, 2017.

ADDRESSES: Submit your comments, identified by Docket ID No. EPA-HQ-OAR-2012-0788, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Ingrid Rosencrantz, EPA Office of Radiation and Indoor Air, (202) 343-9286, rosencrantz.ingrid@epa.gov.

SUPPLEMENTARY INFORMATION: The EPA published the NPRM on January 19, 2017, in the Federal Register (82 FR 7400), which included a request for comments on or before July 18, 2017. The purpose of this document is to reopen that comment period.

A. What should I consider as I prepare my comments for the EPA?

1. Tips for Preparing Your Comments. When submitting comments, remember to:

• Identify the rulemaking by docket number, subject heading, Federal Register date and page number.

• Explain why you agree or disagree; suggest alternatives and substitute language for your requested changes.

• Describe any assumptions and provide any technical information and/or data that you used.

• If you estimate potential costs or burdens, explain how you arrived at your estimate in sufficient detail to allow it to be reproduced.

• Illustrate your concerns with specific examples and suggest alternatives.

• Explain your views as clearly as possible, avoiding the use of profanity or personal threats.

• Make sure to submit your comments by the comment period deadline identified.

B. How can I get copies of this document, the proposed rule and other related information?

The EPA has established a docket for this action under Docket ID No. EPA-HQ-OAR-2012-0788. The EPA has also developed a Web site for the NPRM at: https://www.epa.gov/radiation/40-cfr-part-192-proposed-rulemaking-and-background-documents. Please refer to the original Federal Register NPRM for detailed information on accessing information related to the document.

In response to requests for an extension, we are reopening the public comment period for this NPRM through October 16, 2017. This action will provide the public additional time to provide comment on updating this standard.

Dated: July 26, 2017.
Jonathan D. Edwards,
Director, Office of Radiation and Indoor Air.

[FR Doc. 2017-16170 Filed 8-1-17; 8:45 am]

BILLING CODE 6560-50-P